DEPARTMENT OF TRANSPORTATION

National Highway Traffic Safety Administration

[Docket No. NHTSA-2004-17224]

Evaluation of Federal Motor Vehicle Safety Standard 214 Side Impact Protection; Crush Resistance Requirements for Light Trucks; Technical Report

AGENCY: National Highway Traffic Safety Administration (NHTSA), Department of Transportation.

ACTION: Request for comments on technical report.

SUMMARY: This notice announces NHTSA's publication of a technical report describing the effectiveness of changes made by vehicle manufacturers to meet Federal Motor Vehicle Safety Standard 214 for light trucks. The report's title is Evaluation of FMVSS 214 Side Impact Protection for Light Trucks: Crush Resistance Requirements for Side Doors.

DATES: Comments must be received no later than July 16, 2004.

ADDRESSES: Report: The report is available on the internet for viewing online in html format at http://www.nhtsa.dot.gov/cars/rules/regrev/evaluate/EvalFMVSS214/index.html and in pdf format at http://www.nhtsa.dot.gov/cars/rules/regrev/evaluate/EvalFMVSS214/DOTHS809719.pdf. You may also obtain a copy of the report free of charge by sending a self-addressed mailing label to Marie C. Walz (NPO-321), National Highway Traffic Safety Administration, 400 Seventh Street, SW., Washington, DC 20590.

Comments: You may submit comments [identified by DOT DMS Docket Number NHTSA-2004-17224] by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 am and 5 pm, Monday through Friday, except Federal Holidays.

• Federal eRulemaking Portal: Go to http://www.regulations.gov. Follow the online instructions for submitting comments.

You may call Docket Management at 202-366-9324 and visit the Docket from 10 a.m. to 5 p.m., Monday through Friday.

FOR FURTHER INFORMATION CONTACT: Marie C. Walz, Evaluation Division, NPO-321, Office of Planning, Evaluation and Budget, National Highway Traffic Safety Administration, Room 5208, 400 Seventh Street, SW., Washington, DC 20590. Telephone: 202-366-5377. FAX: 202-366-2559. E-mail: mwalz@nhtsa.dot.gov.

For information about NHTSA's evaluations of the effectiveness of existing regulations and programs: Visit the NHTSA Web site at http://www.nhtsa.dot.gov and click “Regulations & Standards” underneath “Vehicle & Equipment Information” on the home page; then click “Regulatory Evaluation” on the “Regulations & Standards” page.

SUPPLEMENTARY INFORMATION: The technical report evaluates changes made by vehicle manufacturers to light trucks (pickup trucks, vans, and sport utility vehicles), which were required to meet a crush resistance standard for side doors beginning September 1, 1993. Data from calendar years 1989 through 2001 of the Fatality Analysis Reporting System (FARS) were used. Effectiveness was determined by comparing changes in the number of fatalities in side impacts relative to those in frontal impacts.

The effectiveness of side door beams for front outboard occupants was estimated to be 19 percent in all single vehicle side impacts, which would result in the saving of 151 lives in those type crashes if all light trucks were equipped with the side beams. Looking at single vehicle nearside impacts only, the effectiveness of the beams was estimated to be 25 percent. Little or no effectiveness was found in multi-vehicle crashes.

Results were consistent with those found for passenger cars in a 1982 NHTSA study, An Evaluation of Side Structure Improvements in Response to Federal Motor Vehicle Safety Standard 214 (DOT HS 806 314, http://www.nhtsa.dot.gov/cars/rules/regrev/evaluate/806314.html), (47 FR 54839).

How Can I Influence NHTSA's Thinking on This Subject?

NHTSA welcomes public review of the technical report and invites reviewers to submit comments about the data and the statistical methods used in the analyses. NHTSA will submit to the Docket a response to the comments and, if appropriate, additional analyses that supplement or revise the technical report.

How Do I Prepare and Submit Comments?

Your comments must be written and in English. To ensure that your comments are correctly filed in the Docket, please include the Docket number of this document (NHTSA-2004-17224) in your comments.

Your primary comments must not be more than 15 pages long (49 CFR 553.21). However, you may attach additional documents to your primary comments. There is no limit on the length of the attachments.

Please send two paper copies of your comments to Docket Management, submit them electronically, fax them, or use the Federal eRulemaking Portal. The mailing address is U.S. Department of Transportation Docket Management, Room PL-401, 400 Seventh Street, SW., Washington, DC 20590. If you submit your comments electronically, log onto the Dockets Management System Web site at http://dms.dot.gov and click on “Help” to obtain instructions. The fax number is 1-202-493-2251. To use the Federal eRulemaking Portal, go to http://www.regulations.gov and follow the online instructions for submitting comments.

We also request, but do not require you to send a copy to Marie C. Walz, Evaluation Division, NPO-321, National Highway Traffic Safety Administration, Room 5208, 400 Seventh Street, SW., Washington, DC 20590 (alternatively, FAX to 202-366-2559 or e-mail to mwalz@nhtsa.dot.gov). She can check if your comments have been received at the Docket and she can expedite their review by NHTSA.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, send three copies of your complete submission, including the information you claim to be confidential business information, to the Chief Counsel, NCC-01, National Highway Traffic Safety Administration, Room 5219, 400 Seventh Street, SW., Washington, DC 20590. Include a cover letter supplying the information specified in our confidential business information regulation (49 CFR part 512).

In addition, send two copies from which you have deleted the claimed confidential business information to Docket Management, Room PL-401, 400 Seventh Street, SW., Washington, DC 20590, or submit them electronically.

Will the Agency Consider Late Comments?

In our response, we will consider all comments that Docket Management receives before the close of business on the comment closing date indicated above under DATES. To the extent possible, we will also consider comments that Docket Management receives after that date.

Please note that even after the comment closing date, we will continue to file relevant information in the Docket as it becomes available. Further, some people may submit late comments. Accordingly, we recommend that you periodically check the Docket for new material.

How Can I Read the Comments Submitted by Other People?

You may read the comments by visiting Docket Management in person at Room PL-401, 400 Seventh Street, SW., Washington, DC, from 10 a.m. to 5 p.m., Monday through Friday.

You may also see the comments on the Internet by taking the following steps:

A. Go to the Docket Management System (DMS) Web page of the Department of Transportation (http://dms.dot.gov).

B. On that page, click on “Simple Search.”

C. On the next page (http://dms.dot.gov/search/searchFormSimple.cfm/) type in the five-digit Docket number shown at the beginning of this Notice (17224). Click on “Search.”

D. On the next page, which contains Docket summary information for the Docket you selected, click on the desired comments. You may also download the comments.

Authority: 49 U.S.C. 30111, 30168; delegation of authority at 49 CFR 1.50 and 501.8.

Noble N. Bowie,
Associate Administrator for Planning, Evaluation and Budget.

[FR Doc. 04-6073 Filed 3-17-04; 8:45 am]

BILLING CODE 4910-59-P